DEPARTMENT OF HEALTH AND HUMAN SERVICES

Centers for Disease Control and Prevention

Disease, Disability, and Injury Prevention and Control Special Emphasis Panel: Neurological Indices of Long Term Solvent Exposure in Workers, Request for Applications OH-04-001

In accordance with section 10(a)(2) of the Federal Advisory Committee Act (Pub. L. 92-463), the Centers for Disease Control and Prevention (CDC) announces the following meeting:

Name: Disease, Disability, and Injury Prevention and Control Special Emphasis Panel (SEP): Neurological Indices of Long Term Solvent Exposure in Workers, Request for Applications OH-04-001.

Times and Dates: 6 p.m.-6:30 p.m., February 11, 2004 (open); 6:30 p.m.-8 p.m., February 11, 2004 (closed); 9 a.m.-5 p.m., February 12, 2004 (closed); 9 a.m.-5 p.m., February 13, 2004 (closed).

Place: Embassy Suites Hotels, 1900 Diagonal Road, Alexandria, VA 22314, telephone 703-684-5900.

Status: Portions of the meeting will be closed to the public in accordance with provisions set forth in section 552b(c) (4) and (6), title 5 U.S.C., and the Determination of the Director, Management Analysis and Services Office, CDC, pursuant to Public Law 92-463.

Matters to be Discussed: The meeting will include the review, discussion, and evaluation of applications received in response to Request for Applications: OH-04-001.

Contact Person for More Information: Pervis C. Major, Ph.D., Scientific Review Administrator, Office of Extramural Programs, National Institute for Occupational Safety and Health, CDC, 1095 Willowdale Road, Morgantown, WV 26505, telephone 304-285-5979.

The Director, Management Analysis and Services Office, has been delegated the authority to sign Federal Register notices pertaining to announcements of meetings and other committee management activities, for both the CDC and the Agency for Toxic Substances and Disease Registry.

Dated: January 14, 2004.
Alvin Hall,
Director, Management Analysis and Services Office, Centers for Disease Control and Prevention (CDC).

[FR Doc. 04-1303 Filed 1-21-04; 8:45 am]

BILLING CODE 4163-19-P